NATIONAL SCIENCE FOUNDATION

Membership of National Science Foundation's Senior Executive Service Performance Review Board

AGENCY: National Science Foundation.

ACTION: Announcement of Membership of the National Science Foundation's Senior Executive Service Performance Review Board.

SUMMARY: This announcement of the membership of the National Science Foundation's Senior Executive Service Performance Review Board is made in compliance with 5 U.S.C. 4314(c)(4).

ADDRESSES: Comments should be addressed to Division Director, Division of Human Resource Management, National Science Foundation, Room 15239, 2415 Eisenhower Avenue, Alexandria, VA 22314.

FOR FURTHER INFORMATION CONTACT: Ms. Dianne Campbell Krieger at the above address or (703) 292-5194.

SUPPLEMENTARY INFORMATION: The membership of the National Science Foundation's Senior Executive Service Performance Review Board is as follows:

Joan Ferrini-Mundy, Chief Operating Officer, Chairperson

Dorothy Aronson, Acting CIO and Division Director, Division of Information Systems

Suzanne C. Iacono, Office Head, Office of Integrative Activities

Sylvia M. James, Acting Deputy Assistant Director, Directorate for Education and Human Resources

Denise Caldwell, Division Director, Division of Physics

Michael Wetklow, Deputy CFO and Division Director, Budget Division

Joanne Tornow, Head, Office of Information and Resource Management and Chief Human Capital Officer

Dianne Campbell Krieger, Division Director, Division of Human Resource Management and PRB Executive Secretary

Dated: October 26, 2017.
Dianne Campbell Krieger,
Division Director, Division of Human Resource Management.

[FR Doc. 2017-23812 Filed 11-15-17; 8:45 am]

BILLING CODE 7555-01-M